OFFICE OF MANAGEMENT AND BUDGET

Agency Information Collection Activities: Proposed Collection; Comment Request; Information on Meetings With Outside Parties Pursuant to Executive Order 12866

AGENCY: Office of Management and Budget.

ACTION: Notice and request for comments.

SUMMARY: The Office of Information and Regulatory Affairs (OIRA) within the Office of Management and Budget (OMB) is proposing to revise the information collection it uses to for members of the public who request a meeting with OIRA on rules under review at the time pursuant to Executive Order 12866. The information collected would be subject to the Paperwork Reduction Act (PRA) and this notice announces and requests comment on OIRA's proposal for such a collection.

DATES: Consideration will be given to all comments received by April 2, 2019.

ADDRESSES: Submit comments by one of the following methods:

• Website: www.regulations.gov. Direct comments to Docket ID OMB-2018-0011.

• Email: Oira_submission@omb.eop.gov. Please include in the subject line of the email, “Executive Order 12866 Information Collection.”

• Fax: 202-395-5806.

Comments submitted in response to this notice may be made available to the public. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Lisa Jones, 202-395-5897, Oira_submission@omb.eop.gov.

SUPPLEMENTARY INFORMATION:

Title: Information on Meetings With Outside Parties Pursuant to Executive Order 12866.

Abstract: Executive Order 12866, “Regulatory Planning and Review,” issued by President Clinton on September 30, 1993, establishes and governs the process under which OIRA reviews agency draft and proposed final regulatory actions. Consistent with the disclosure provisions of Executive Order 12866, OIRA provides information about its work related to regulatory reviews on Reginfo.gov at www.Reginfo.gov and on OIRA's website at https://www.whitehouse.gov/omb/oira. If the OIRA Administrator or his/her designee meets with outside parties during a review, the subject, date, and participants of the meeting are disclosed on the Reginfo.gov website, as well as any materials distributed at such meetings.

These meetings occur at the initiative and request of an outside party. Any member of the public may request a meeting about a regulatory action under OIRA review to present their views and may invite other outside parties to attend. OIRA invites representatives from the agency or agencies issuing the regulatory action. OIRA does not take minutes during the meeting but does, however, post on any written materials provided by outside parties during these meetings, including the initial meeting request.

To help ensure transparency associated with meetings pursuant to Executive Order 12866, OIRA is proposing to collect—and then post publicly—the following information from outside parties that request a meeting with OIRA to present their views on a regulatory action currently under review:

1. Names of all attendees who will be present at the meeting from the outside party or parties. Each attendee's organization or affiliation. If an attendee is representing another organization, please provide the name of the organization the attendee is representing.

2. The name of the regulatory action under review on which the party would like to present its views.

3. Electronic copies of all of briefing materials that will be used during the presentation.

4. An acknowledgment by the requesting party that all information submitted to OIRA pursuant to this collection and meeting request will be made publically available at Reginfo.gov.

Additionally the contact information (phone number and email) for the requesting organization will also be collected in order to confirm the meeting with them, but will not be posted. This revision includes allowing outside parties to provide the information to OIRA through an electronic online form.

This revision to the information collection will streamline the current process for outside parties when requesting a meeting and will ensure transparency and accuracy of the docket that OIRA keeps in accordance with the disclosure provisions of Executive Order 12866. OIRA welcomes any and all public comments on the proposed collection of information such as the accuracy of OIRA's burden estimate, the practical utility of collecting this information, and whether there are additional pieces of information that could be collected from meeting requestors to further the disclosure provisions of Executive Order 12866.

Current actions: Proposal for revising an existing information collection requirement.

Type of review: Revision.

Affected public: Individuals and Households, Businesses and Organizations, State, Local or Tribal Governments.

Expected average annual number of respondents: 200.

Average annual number of responses per respondent: 2.

Total number of responses annually: 400.

Burden per response: 30 minutes.

Total average annual burden: 200 hours.

Request for comments: OMB anticipates that comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information.

An agency may not conduct or sponsor, and a person is not required to respond to, a collection of information unless it displays a currently valid OMB control number.

Dominic J. Mancini,
Deputy Administrator.

[FR Doc. 2019-00701 Filed 1-31-19; 8:45 am]

BILLING CODE 3110-01-P